DEPARTMENT OF THE INTERIOR

National Park Service

Notice of Availability of an Environmental Assessment

AGENCY: National Park Service, Department of the Interior.

ACTION: Notice of Availability of an Environmental Assessment to Install Fire Suppression Systems for 50 Historic Structures at Gettysburg National Military Park, Adams County, Pennsylvania.

SUMMARY: Pursuant to the Council on Environmental Quality regulations and National Park Service policy, the NPS announces the availability of a draft environmental assessment for the Installation of Fire Suppression Systems for 50 Historic Structures at Gettysburg National Military Park. The purpose of this environmental assessment is to present the alternatives for installation of fire suppression systems in 50 historic structures and related impacts. The NPS is soliciting comments on this environmental assessment. NPS will consider these comments in making a decision pursuant to the National Environmental Policy Act (NEPA) and the National Historic Preservation Act of 1966 (NHPA).

DATES: The environmental assessment will remain available for public comment through October 10, 2000.

FOR FURTHER INFORMATION CONTACT: Katie Lawhon, (717) 334-1124, extension 452 or write to Superintendent, Gettysburg National Military Park, 97 Taneytown Road, Gettysburg, Pennsylvania 17325.

SUPPLEMENTARY INFORMATION: The National Park Service proposes to install fire suppression systems for 50 historic structures at Gettysburg National Military Park in Adams County, Pennsylvania. The lack of adequate fire protection places these 50 historic structures at risk. Current uses of the buildings include interpretive exhibits for visitors, park office space, storage, employee or rental housing and agricultural functions. Without fire detection and suppression systems neither the long-term preservation of these historic structures nor the safety of the visitors, employees and residents who use these buildings can be ensured.

Alternatives analyzed in the draft Environmental Assessment include Alternative 1, No Action and Alternate 2 (the Proposal). Under Alternative 1, No Action, fire detection and fire suppression equipment would not be installed in the 50 historic structures under consideration. Under Alternative 2, remote fire detection and suppression systems with storage tanks, pumps, and warning devices would be installed in each of the 50 historic structures.

Dated: September 11, 2000.
Russell A. Thompson,
Acting Superintendent, Gettysburg National Military Park.

[FR Doc. 00-24077 Filed 9-19-00; 8:45 am]

BILLING CODE 4310-70-P